DEPARTMENT OF COMMERCE

International Trade Administration

[A-423-808, A-475-822, A-580-831]

Stainless Steel Plate in Coils From Belgium, Italy, and the Republic of Korea; Extension of Final Results of Expedited Sunset Reviews

AGENCY: Import Administration, International Trade Administration, Department of Commerce.

ACTION: Notice of extension of time limit for final results of expedited sunset reviews: stainless steel plate in coils from Belgium, Italy, and the Republic of Korea.

SUMMARY: The Department of Commerce (“the Department”) is extending the time limit for its final results in the expedited sunset reviews of the antidumping duty orders on stainless steel plate in coils from Belgium, Italy, and the Republic of Korea. Based on adequate responses from the domestic interested parties and inadequate responses from respondent interested parties, the Department is conducting expedited sunset reviews to determine whether revocation of the antidumping duty orders would lead to the continuation or recurrence of dumping. As a result of this extension, the Department intends to issue final results of these sunset reviews on or about October 15, 2004.

EFFECTIVE DATE: October 12, 2004.

FOR FURTHER INFORMATION CONTACT: Hilary E. Sadler, Esq., Import Administration, International Trade Administration, U.S. Department of Commerce, 14th Street & Constitution Avenue, NW., Washington, DC 20230; telephone: (202) 482-4340.

Extension of Final Results

On April 1, 2004, the Department published its notice of initiation of sunset reviews of the antidumping duty orders on stainless steel plate in coils from Belgium, Italy, and the Republic of Korea. See Initiation of Five-Year (Sunset) Reviews, 69 FR 17129 (April 1, 2004). The Department determined that it would conduct expedited sunset reviews of these antidumping duty orders based on responses from the domestic interested parties and no responses from the respondent interested parties to the notice of initiation. The Department's final results of these reviews were scheduled for July 30, 2004 and extended to August 30, 2004. The Department, however, needs additional time to consider issues related to the appropriate margin(s) of dumping likely to prevail if the orders are revoked. Therefore, the Department intends to issue the final results on or about October 15, 2004, in accordance with section 777(i)(1) of the Tariff Act of 1930, as amended.

Dated: September 29, 2004.
James J. Jochum,
Assistant Secretary for Import Administration.

[FR Doc. E4-2568 Filed 10-8-04; 8:45 am]

BILLING CODE 3510-DS-P